DEPARTMENT OF TRANSPORTATION

Federal Aviation Administration

14 CFR Part 71

[Docket No. FAA-2020-1126; Airspace Docket No. 19-ANM-10]

RIN 2120-AA66

Amendment of Class E airspace; Great Falls, MT

AGENCY: Federal Aviation Administration (FAA), DOT.

ACTION: Final rule.

SUMMARY: This action modifies the Class E airspace, designated as an extension to a Class D or Class E surface area, at Great Falls International Airport. This action also modifies the Class E airspace extending upward from 700 feet above the surface. Additionally, this action modifies the Class E airspace extending upward from 1,200 feet above the surface. This action removes the Great Falls VORTAC from the Class E4 and Class E5 text headers and airspace descriptions. Further, this action removes Malmstrom AFB from the Class E5 text header and airspace description. Lastly, this action implements several administrative corrections to the airspaces' legal descriptions.

DATES: Effective 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S. 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class E airspace at Great Falls International Airport, Great Falls, MT, to ensure the safety and management of IFR operations at the airport.

History

The FAA published a notice of proposed rulemaking in the Federal Register (86 FR 3891, January 15, 2021) for Docket No. FAA-2020-1126 to modify the Class E airspace at Great Falls International Airport, Great Falls, MT. Interested parties were invited to participate in this rulemaking effort by submitting written comments on the proposal to the FAA. No comments were received.

Subsequent to publication of the NPRM, the FAA identified an error in the description for the airspace extending upward from 700 feet above the surface. In the NPRM a portion of this airspace was described as “within 8 miles south and 4 miles north of the 222° from the airport, extending from 2.6 miles southwest of the airport to 18.7 miles southwest of the airport.” The Final Rule corrects this description to read “within 8 miles south and 4 miles north of the 225° bearing from the airport, extending from 2.6 miles southwest of the airport to 18.7 miles southwest of the airport.”

Class D, E4, and E5 airspace designations are published in paragraph 5000, 6004, and 6005, respectively, of FAA Order 7400.11E, dated July 21, 2020, and effective September 15, 2020, which is incorporated by reference in 14 CFR 71.1. The Class D and Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to 14 CFR part 71 modifies the Class E airspace, designated as an extension to a Class D or Class E surface area, at Great Falls International Airport. This action reduces the size of the area to properly contain IFR aircraft descending below 1,000 feet above the surface.

This action also modifies the Class E airspace extending upward from 700 feet above the surface. This action significantly reduces the size of this area to properly contain IFR departures to 1,200 feet above the surface and IFR arrivals descending below 1,500 feet above the surface.

Additionally, this action modifies the Class E airspace extending upward from 1,200 feet above the surface. This action reduces the size of this area to properly contain IFR aircraft transitioning to/from the terminal and en route environments.

This action also removes the Great Falls VORTAC from the Class E4 and Class E5 text headers and airspace descriptions. The Navigational Aid (NAVAID) is not needed to describe the airspace areas. Removal of the NAVAID allows the airspace to be described from a single point, which simplifies the airspaces' descriptions.

Further, this action removes Malmstrom AFB from the Class E5 text header and airspace description. Reference to Malmstrom AFB is not needed to describe the airspace area. Removal of Malmstrom AFB allows the airspace to be described from a single point, which simplifies the airspace's description.

Lastly, this action implements several administrative amendments to the airspaces' legal descriptions. The first line of the Class D and Class E4 text headers is amended to remove the airport name. The airport's geographic coordinates in the Class D, Class E4, and Class E5 text header are updated to lat. 47°28′56″ N, long. 111°22′13″ W.

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ANM MT D Great Falls, MT [Amended]

Great Falls International Airport, MT

(Lat. 47°28′56″ N, long. 111°22′13″ W)

That airspace extending upward from the surface to and including 6,200 feet MSL within a 5.5-mile radius of Great Falls International Airport.

Paragraph 6004 Class E Airspace Areas Designated as an Extension to a Class D or Class E Surface Area.

* * * * *

ANM MT E4 Great Falls, MT [Amended]

Great Falls International Airport, MT

(Lat. 47°28′56″ N, long. 111°22′13″ W)

That airspace extending upward from the surface within 1 mile each side of the 224° bearing from the airport, extending from the 5.5-mile radius to 9.6 miles southwest of Great Falls International Airport.

Paragraph 6005 Class E Airspace Areas Extending Upward From 700 Feet or More Above the Surface of the Earth.

* * * * *

ANM MT E5 Great Falls, MT [Amended]

Great Falls International Airport, MT

(Lat. 47°28′56″ N, long. 111°22′13″ W)

That airspace extending upward from 700 feet above the surface within a 7-mile radius of the airport, and within 3.4 miles each side of the 047° bearing from the airport, extending from the 7-mile radius to 12 miles northeast of the airport, and within 8 miles south and 4 miles north of the 225° bearing from the airport, extending from 2.6 miles southwest of the airport to 18.7 miles southwest of the airport; and that airspace extending upward from 1,200 feet above the surface within a 48-mile radius of Great Falls International Airport.

Issued in Des Moines, Washington, on June 25, 2021.
B.G. Chew,
Acting Group Manager, Operations Support Group, Western Service Center.

[FR Doc. 2021-14069 Filed 6-30-21; 8:45 am]

BILLING CODE 4910-13-P